DEPARTMENT OF COMMERCE

National Institute of Standards and Technology

[Docket Number 211026-0219]

Study on People's Republic of China (PRC) Policies and Influence in the Development of International Standards for Emerging Technologies

AGENCY: National Institute of Standards and Technology (NIST), Commerce.

ACTION: Request for information.

SUMMARY: The National Institute of Standards and Technology (NIST) is soliciting public comment on People's Republic of China (PRC) policies and influence in the development of international standards for emerging technologies. Section 9414 of the National Defense Authorization Act (NDAA) of 2021 directs NIST to enter into an agreement with an appropriate entity to conduct a study and provide recommendations with respect to the effect of policies of the PRC and coordination among industrial entities within the PRC on international bodies engaged in developing and setting international standards for emerging technologies. NIST is seeking comments to provide information for the study and resulting recommendations. In addition to the specific topic areas found in the Request for Information section of this notice, commenters may provide responses to any other relevant issues. Recommendations on the actions the United States could take to mitigate any undue influence of the PRC and bolster United States public and private sector participation in international standards-setting bodies are also sought. Comments received in response to this request will be used to inform the work of the entity.

DATES: Comments must be received by 5:00 p.m. Eastern time on December 6, 2021. Written comments in response to the RFI should be submitted according to the instructions in the ADDRESSES section below. Submissions received after that date may not be considered.

ADDRESSES: Comments may be submitted by any of the following methods:

• Electronic submission: Submit electronic public comments via the Federal e-Rulemaking Portal.

1. Go to www.regulations.gov and enter NIST-2021-0006 in the search field,

2. Click the “Comment Now!” icon, complete the required fields, and

3. Enter or attach your comments.

Comments containing references, studies, research, and other empirical data that are not widely published should include copies of the referenced materials. All submissions, including attachments and other supporting materials, will become part of the public record and subject to public disclosure. NIST reserves the right to publish relevant comments publicly, unedited and in their entirety. Personal information, such as account numbers or Social Security numbers, or names of other individuals, should not be included. Do not submit confidential business information, or otherwise sensitive or protected information. Comments that contain profanity, vulgarity, threats, or other inappropriate language or content will not be considered.

FOR FURTHER INFORMATION CONTACT: David F. Alderman, Standards Services Division, National Institute of Standards and Technology via email: david.alderman@nist.gov, or phone; 240-446-8843. Please direct media inquiries to NIST's Office of Public Affairs at (301) 975-2762 or inquiries@nist.gov.

SUPPLEMENTARY INFORMATION: NIST's Standards Coordination Office (SCO), initiates and manages programs, tools and activities to enhance U.S. industry competitiveness and federal agencies' coordination on issues related to technical standards and conformity assessment.

SCO monitors and participates in standards development and conformity assessment activities globally, consults with other federal agencies on standards policy issues, offers workshops and educational seminars for domestic and international audiences, and provides standards-related research and information services. More information can be found at https://www.nist.gov/standardsgov/about-standardsgov.

All industries use standardized processes and specifications to ensure that products are built to work together seamlessly. If each country or company did not adhere to the same standards, technologies would not be able to easily work with products designed by other companies or to work in other markets. In effect, standards allow products to be designed and produced at scale and used worldwide, which facilitates global trade. For example, the Wi-Fi standard provides the requirements for wireless local area networks and has facilitated the broad-based adoption of Wi-Fi wireless technology, which is now ubiquitous and has become indispensable for home networking, public internet connectivity, supporting the Internet of Things, and more.

Standards can also be proprietary and for-profit. For example, an operating system in a phone is open-source in order to promote standardization among smartphone makers and app developers, but companies still must pay licensing fees to use it.

There is not a single process by which all standards are created. Generally speaking, standards are set by a combination of private companies who are industry leaders as well as by international industry associations. Standards are enforced either as a convention—a “best practice”—or as formal agreements, depending on the industry and product.

Standards are not just useful for solving practical issues of compatibility, but also because they accelerate innovation. When companies use open standards rather than proprietary ones, they do not need to devote resources to developing their own internal systems and can instead follow established practices. International standards allow regulators and governments to improve trade policies and develop better regulations. International standards developed in a process consistent with the World Trade Organization's Technical Barriers to Trade Agreement provide an ideal tool to support trade agreements, and to provide confidence that requirements for products and testing have global relevance and are accepted worldwide.

Requirements of the Statutory Provision

Section 9414 of the National Defense Authorization Act for Fiscal Year 2021 (“William M. (Mac) Thornberry National Defense Authorization Act for Fiscal Year 2021”) (Pub. L. 116-283) requires NIST to enter into an agreement with an appropriate entity to study the effect of the policies of the People's Republic of China and coordination among industrial entities within the People's Republic of China on international bodies engaged in developing and setting international standards for emerging technologies.

“Made in China 2025” is a strategic plan that was initiated in 2015 to reduce China's dependence on foreign technology and promote Chinese technological manufacturers in the global marketplace. The goal was to reach this objective by the year 2025, a decade from the year when the plan first took root. More information on the “Made in China 2025” policy can be found at http://english.www.gov.cn/policies/latest_releases/2015/05/19/content_281475110703534.htm.

The “China Standards 2035” project will most likely build upon Made in China 2025. The “China Standards 2035” plan will lay out a blueprint for China's government and leading technology companies to set global standards for emerging technologies in areas such as artificial intelligence and advanced communications technology.

International standards need to be relevant and to effectively respond to regulatory and market needs, as well as scientific and technological developments in various countries. They should not distort the global market, have adverse effects on fair competition, or stifle innovation and technological development. In addition, they should not give preference to the characteristics or requirements of specific countries or regions when different needs or interests exist in other countries or regions. Whenever possible, international standards should be performance based rather than based on design or descriptive characteristics.

Request for Information

To ensure that the broad perspective of the standards community informs the development of and aligns with government's future plans and approaches, this RFI invites stakeholders throughout the scientific research, advocacy, industry, and non-scientific communities, including the general public, to comment. The enumerated list of topics below covers the major areas about which NIST seeks comment and is not intended to limit the topics that may be addressed. Commenters may provide responses to other relevant issues, such as the extent to which the PRC partners with foreign governments or multinational corporations to promote technical standards that may advantage PRC companies, entities, or state objectives; the aims of the PRC in international standards setting organizations, including an analysis of Chinese-language sources; the standardization strategy of the PRC, as identified in the stated intentions of the “China Standards 2035” plan, including how and to what extent that strategy has been implemented and has influenced PRC industry and academic sectors, including in the development of indigenous standards with international implications. Commenters may also offer comments on whether international standards for select emerging technologies (e.g., electronics, artificial intelligence, the Internet of Things (IoT), blockchain and financial technologies, clean energy technologies, and quantum information technologies) are being designed to promote or favor interests of the PRC, as expressed in the “Made in China 2025” plan, to the exclusion or disadvantage of other participants or in a way that may not result in the best technological solution. Responses may include any topic believed to have implications for the study.

1. The participation of the People's Republic of China in international standards setting organizations over the previous 10 years, including leadership roles in standards drafting technical committees, and the quality or value of that participation;

2. The effect of the standardization strategy of the People's Republic of China, as identified in the “China Standards 2035” plan on international bodies engaged in developing and setting standards for select emerging technologies, such as advanced communication technologies, or cloud computing and cloud services;

3. Whether international standards for select emerging technologies are being designed to promote interests of the People's Republic of China as expressed in the “Made in China 2025” plan to the exclusion of other participants;

4. How previous practices used by the People's Republic of China while participating in international standards setting organizations may foretell how the People's Republic of China is likely to engage in international standardization activities of critical technologies like artificial intelligence and quantum information science, and what may be the consequences;

5. Recommendations on how the United States can take steps to mitigate the influence of the People's Republic of China and bolster United States public and private sector participation in international standards-setting bodies.

Alicia Chambers,
NIST Executive Secretariat.

[FR Doc. 2021-24090 Filed 11-3-21; 8:45 am]

BILLING CODE 3510-13-P